DEPARTMENT OF THE INTERIOR

Fish and Wildlife Service

[FWS-R8-ES-2022-0103; FXES11140800000-223-FF08EVEN00]

Permit Amendment Request; 12 Rancho San Carlos (Ocho West) Project, Monterey County, California

AGENCY: Fish and Wildlife Service, Interior.

ACTION: Notice of availability; request for public comments.

SUMMARY: We, the U.S. Fish and Wildlife Service (Service), have received an application from Andris Upitis (applicant) to amend an incidental take permit pursuant to the Endangered Species Act of 1973, as amended. The permit would continue to authorize take of the central distinct population segment (DPS) of the California tiger salamander and the California red-legged frog, incidental to construction of a single-family residence at 12 Rancho San Carlos (Ocho West). We invite public comment on the amendment request, which includes the applicant's original HCP. In accordance with the requirements of the National Environmental Policy Act, we have prepared a draft low-effect screening form supporting our preliminary determination that the proposed action qualifies for a categorical exclusion under NEPA. To make this determination, we reassessed our environmental action statement and low-effect screening form prepared for the current HCP, and this draft NEPA compliance documentation is also available for public review.

DATES: Written comments should be received on or before November 10, 2022.

ADDRESSES:

To obtain documents: You may obtain copies of the documents online in Docket No. FWS-R8-ES-2022-0103 at https://www.regulations.gov, or you may request copies of the documents by U.S. mail (below) or by email (see FOR FURTHER INFORMATION CONTACT).

To submit comments: If you wish to submit comments on any of the documents, you may do so in writing by any of the following methods:

• Online: https://www.regulations.gov. Follow the instructions for submitting comments on Docket No. FWS-R8-ES-2022-0103.

• U.S. mail: Public Comments Processing, Attn: Docket No. FWS-R8-ES-2022-0103; U.S. Fish and Wildlife Service, MS: PRB/3W, 5275 Leesburg Pike, Falls Church, VA 22041-3803.

FOR FURTHER INFORMATION CONTACT: Rachel Henry, Fish and Wildlife Biologist, at rachel_henry@fws.gov (by email), or at the Ventura Fish and Wildlife office (by telephone at 805-644-1766, or by mail; see ADDRESSES). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received an application from Andris Upitis (applicant) to amend their incidental take permit pursuant to the Endangered Species Act of 1973, as amended (ESA; 16 U.S.C. 1531 et seq.). The permit amendment would authorize increased take of the federally threatened central distinct population segment (DPS) of the California tiger salamander (Ambystoma californiense) and California red-legged frog (Rana draytonii) incidental to otherwise lawful activities associated with the construction of a single-family residence at 12 Rancho San Carlos (Ocho West). The applicant requests to amend their permit to account for increased take resulting from a modification to water pipeline alignment necessary to connect with the existing Santa Lucia Preserve Community Services District water system at a different location than originally proposed. The project described in the original HCP has not changed, except for the modified location of the water pipeline connection alignment. The modification will result in an increase in temporary impacts of 4.8 to 5.2 acres. The applicant's amendment request includes measures to minimize, avoid, and mitigate impacts to the central DPS of the California tiger salamander and California red-legged frog consistent with those proposed in the original HCP. The Service prepared a draft low-effect screening form and environmental action statement in accordance with the National Environmental Policy Act of 1969 (NEPA; 42 U.S.C. 4321 et seq.) to evaluate the potential effects to the natural and human environment resulting from issuing an amended ITP to the applicant. We invite public comment on these documents.

Background

The Service listed the central DPS of the California tiger salamander as threatened on August 4, 2004 (69 FR 47212). The Service listed the California red-legged frog as threatened on May 23, 1996 (61 FR 25813), and critical habitat was designated on March 10, 2010 (75 FR 12816). Federal regulation pursuant to section 4(d) of the ESA prohibits the “take” of certain fish or wildlife species listed as threatened, including the central DPS of the California tiger salamander and the California red-legged frog, with exceptions for certain ranching activities on private and Tribal lands as described in 50 CFR 17.43(c)(3)(i)-(xi) and 50 CFR 17.43(d)(3)(i)-(xi). “Take” is defined under the ESA to include the following activities: “[T]o harass, harm, pursue, hunt, shoot, wound, kill, trap, capture, or collect, or to attempt to engage in any such conduct” (16 U.S.C. 1532); however, under section 10(a)(1)(B) of the ESA, we may issue permits to authorize incidental take of listed species. Incidental take is take that is incidental to, and not the purpose of, carrying out of an otherwise lawful activity. Regulations governing incidental take permits for threatened species are at 50 CFR 17.32. Issuance of an incidental take permit also must not jeopardize the existence of federally listed fish, wildlife, or plant species. The original incidental take permit was first issued for the HCP on September 23, 2021.

Proposed Project Activities

The applicant's amendment request includes measures to minimize, avoid, and mitigate impacts to the Central DPS of the California tiger salamander and California red-legged frog consistent with those proposed in the original HCP through restoration of habitat.

Public Comments

If you wish to comment on the amendment request and categorical exclusion screening form, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Stephen P. Henry,
Field Supervisor, Ventura Fish and Wildlife Office, Ventura, California.

[FR Doc. 2022-22048 Filed 10-7-22; 8:45 am]

BILLING CODE 4333-15-P